SMALL BUSINESS ADMINISTRATION

Notice Inviting Application for Funding Under the 7(j) Management and Technical Assistance Program

AGENCY: U.S. Small Business Administration.

ACTION: Notice of invitation for proposals for 7(j) Management and Technical Assistance Awards in FY 2004.

SUMMARY: The U.S. Small Business Administration (SBA) plans to issue program announcement No. MTA-04-01, to solicit proposals from organizations to provide business development assistance for nationwide 7(j) eligible client executives. The authorizing legislation for this training is Section 7(j) of the Small Business Act, U.S.C. 636(j). SBA will select successful proposals using a competitive process.

Award recipients will have responsibility for project oversight, design, marketing, management, execution, monitoring and reporting for the training program. Proposals are being solicited from non-profit organizations, small businesses and educational institutions. The applicant must have the qualified trainers, support staff, training and technical materials, equipment and facilities, or access to facilities, as well as an internal financial management system, to provide business development assistance to 7(j) eligible client executives.

The business development proposal must provide practical information and guidance on how to define business development and carry out that business development. The proposal must include plans to assist the firms in the development of Individualized Business Development Plans (IBDPs). The proposal must also include the development of DVD/materials package (full audio and video) for the 7(j) clients. The business development training workshops, IBDPs and DVDs will be provided to firms with less than two years in the 8(a) program and other 7(j) eligible clients who have been in business for not more than four (4) years. The class room lecture and workshops will provide brief training and development of the (IBDP) that address: competence in accounting; competence in marketing; competence in cash flow management; access to credit; access to capital; access to surety; access to Federal procurement, non-Federal procurement and subcontracts; access to further training, which may include marketing, human resources, accounting, management, technical/professional skills

SBA plans to award approximately $1,000,000.00, subject to the availability of funds, under this notice. This amount would fund one or multi-awards which would provide business development training workshops and DVDs to approximately 1,500 firms including 8(a) participants entering the program and other eligible 7(j) executives. SBA reserves the right to fund, in whole or in part, any, all, or none of the proposals submitted in response to this notice. Awards will have a project period of one (1) year. Award amounts may vary, depending on the number of 7(j) eligible clients that an applicant is able to train.

The selection criteria to be used for this competition will be provided in the application package.

DATES: The closing date for applications will be March 19, 2004.

ADDRESSES: To obtain a copy of the complete application package call Adrienne Dinkins at (202) 205-7140, or go to SBA's Web site at http://www.sba.gov.

For Applications and Further Information: Questions concerning the technical aspects of this notice should be directed to Jacqueline Fleming at (202) 205-6177. Questions about budget or funding matters should be directed to Adrienne Dinkins at (202) 205-7140.

Program Authority: 15 U.S.C. 636(j).

Eugene Cornelius, Jr.,
Associate Administrator, Business Development.

[FR Doc. 04-3019 Filed 2-11-04; 8:45 am]

BILLING CODE 8025-01-P